PRESIDIO TRUST

Notice of Renewal of the Charter of the Presidio Institute Advisory Council

AGENCY: The Presidio Trust.

ACTION: Notice of renewal of the charter of the Presidio Institute Advisory Council.

SUMMARY: Pursuant to the Federal Advisory Committee Act, as amended (5 U.S.C. Appendix 2), the Chief Executive Officer of the Presidio Trust announces the intent to renew the charter of the Presidio Institute Advisory Council (“Council”). The Council was formed to advise the Chief Executive Officer of the Presidio Trust (“Trust”) on matters pertaining to the rehabilitation and reuse of Fort Winfield Scott as a new national center focused on service and leadership development.

SUPPLEMENTARY INFORMATION: The Trust's Chief Executive Officer, in consultation with the Chair of the Board of Directors, has determined that the Council is in the public interest and supports the Trust in performing its duties and responsibilities under the Presidio Trust Act, 16 U.S.C. 460bb appendix.

The Council will continue to advise on the establishment of a new national center (“Presidio Institute”) focused on service and leadership development, with specific emphasis on: (a) Assessing the role and key opportunities of a national center dedicated to service and leadership at Fort Scott in the Presidio of San Francisco; (b) providing recommendations related to the Presidio Institute's programmatic goals, target audiences, content, implementation and evaluation; (c) providing guidance on a phased development approach that leverages a combination of funding sources including philanthropy; and (d) making recommendations on how to structure the Presidio Institute's business model to best achieve the Presidio Institute's mission and ensure long-term financial self-sufficiency.

FOR FURTHER INFORMATION CONTACT: Additional information is available online at http://www.presidio.gov/institute/about/Pages/advisory-council.aspx.

Dated: October 5, 2016.
Andrea M. Andersen,
Acting General Counsel.

[FR Doc. 2016-24585 Filed 10-11-16; 8:45 am]

BILLING CODE 4310-4R-P